DEPARTMENT OF ENERGY

Federal Energy Regulatory Commission

Combined Notice of Filings #1

January 27, 2011.

Take notice that the Commission received the following electric rate filings:

Docket Numbers: ER10-2783-002.

Applicants: Arthur Kill Power LLC

Description: Arthur Kill Power LLC submits tariff filing per 35: Arthur Kill—Amendment to MBR Tariff 01262011 to be effective 10/8/2010.

Filed Date: 01/27/2011

Accession Number: 20110127-5100

Comment Date: 5 p.m. Eastern Time on Thursday, February 17, 2011

Docket Numbers: ER10-2784-002.

Applicants: Astoria Gas Turbine Power LLC

Description: Astoria Gas Turbine Power LLC submits tariff filing per 35: Astoria—Amendment to MBR Tariff 01/26/2011 to be effective 10/8/2010.

Filed Date: 01/27/2011

Accession Number: 20110127-5106

Comment Date: 5 p.m. Eastern Time on Thursday, February 17, 2011

Docket Numbers: ER10-2795-002.

Applicants: Conemaugh Power LLC

Description: Conemaugh Power LLC submits tariff filing per 35: Conemaugh—Amendment to MBR Tariff 01262011 to be effective 10/8/2010.

Filed Date: 01/27/2011

Accession Number: 20110127-5107

Comment Date: 5 p.m. Eastern Time on Thursday, February 17, 2011

Docket Numbers: ER10-2798-002.

Applicants: Connecticut Jet Power LLC

Description: Connecticut Jet Power LLC submits tariff filing per 35: Connecticut Jet—Amendment to MBR Tariff 01272011 to be effective 10/8/2010.

Filed Date: 01/27/2011

Accession Number: 20110127-5129

Comment Date: 5 p.m. Eastern Time on Thursday, February 17, 2011

Docket Numbers: ER10-2799-002.

Applicants: Devon Power LLC

Description: Devon Power LLC submits tariff filing per 35: Devon—Amendment to MBR Tariff 01/26/2011 to be effective 10/8/2010.

Filed Date: 01/27/2011

Accession Number: 20110127-5108

Comment Date: 5 p.m. Eastern Time on Thursday, February 17, 2011

Docket Numbers: ER10-2846-002.

Applicants: Huntley Power LLC

Description: Huntley Power LLC submits tariff filing per 35: Huntley—Amendment to MBR Tariff 01262011 to be effective 10/8/2010.

Filed Date: 01/27/2011

Accession Number: 20110127-5109

Comment Date: 5 p.m. Eastern Time on Thursday, February 17, 2011

Docket Numbers: ER10-2875-002.

Applicants: Keystone Power LLC

Description: Keystone Power LLC submits tariff filing per 35: Amendment to MBR Tariff 01272011 to be effective 10/8/2010.

Filed Date: 01/27/2011

Accession Number: 20110127-5111

Comment Date: 5 p.m. Eastern Time on Thursday, February 17, 2011

Docket Numbers: ER10-2878-002.

Applicants: Middleton Power LLC

Description: Middleton Power LLC submits tariff filing per 35: Middleton—Amendment to MBR Tariff 01272011 to be effective 10/8/2010.

Filed Date: 01/27/2011

Accession Number: 20110127-5112

Comment Date: 5 p.m. Eastern Time on Thursday, February 17, 2011

Docket Numbers: ER10-2879-002.

Applicants: Montville Power LLC

Description: Montville Power LLC submits tariff filing per 35: Montville—Amendment to MBR Tariff 01272011 to be effective 10/8/2010.

Filed Date: 01/27/2011

Accession Number: 20110127-5113

Comment Date: 5 p.m. Eastern Time on Thursday, February 17, 2011

Docket Numbers: ER10-2880-002.

Applicants: NEO Freehold LLC

Description: NEO Freehold LLC submits tariff filing per 35: NEO Freehold—Amendment to MBR Tariff 01272011 to be effective 10/8/2010.

Filed Date: 01/27/2011

Accession Number: 20110127-5115

Comment Date: 5 p.m. Eastern Time on Thursday, February 17, 2011

Docket Numbers: ER10-2888-002.

Applicants: Norwalk Power LLC

Description: Norwalk Power LLC submits tariff filing per 35: Norwalk—Amendment to MBR Tariff 01272011 to be effective 10/8/2010.

Filed Date: 01/27/2011

Accession Number: 20110127-5117

Comment Date: 5 p.m. Eastern Time on Thursday, February 17, 2011

Docket Numbers: ER10-2896-002.

Applicants: NRG Energy Center Dover LLC

Description: NRG Energy Center Dover LLC submits tariff filing per 35: ECD—Amendment to MBR Tariff 01272011 to be effective 10/8/2010.

Filed Date: 01/27/2011

Accession Number: 20110127-5118

Comment Date: 5 p.m. Eastern Time on Thursday, February 17, 2011

Docket Numbers: ER10-2913-002.

Applicants: NRG Energy Center Paxton LLC

Description: NRG Energy Center Paxton LLC submits tariff filing per 35: ECP—Amendment to MBR Tariff 01272011 to be effective 10/8/2010.

Filed Date: 01/27/2011

Accession Number: 20110127-5120

Comment Date: 5 p.m. Eastern Time on Thursday, February 17, 2011

Docket Numbers: ER10-2914-002.

Applicants: NRG New Jersey Energy Sales LLC

Description: NRG New Jersey Energy Sales LLC submits tariff filing per 35: NJES—Amendment to MBR Tariff 01272011 to be effective 10/8/2010.

Filed Date: 01/27/2011

Accession Number: 20110127-5121

Comment Date: 5 p.m. Eastern Time on Thursday, February 17, 2011

Docket Numbers: ER10-2915-002.

Applicants: NRG Rockford II LLC

Description: NRG Rockford II LLC submits tariff filing per 35: Rockford II—Amendment to MBR Tariff 01272011 to be effective 10/8/2010.

Filed Date: 01/27/2011

Accession Number: 20110127-5122

Comment Date: 5 p.m. Eastern Time on Thursday, February 17, 2011

Docket Numbers: ER10-2916-002.

Applicants: NRG Rockford LLC

Description: NRG Rockford LLC submits tariff filing per 35: Rockford—Amendment to MBR Tariff 01272011 to be effective 10/8/2010.

Filed Date: 01/27/2011

Accession Number: 20110127-5123

Comment Date: 5 p.m. Eastern Time on Thursday, February 17, 2011

Docket Numbers: ER10-2932-002.

Applicants: Somerset Power LLC

Description: Somerset Power LLC submits tariff filing per 35: Somerset—Amendment to MBR Tariff 01272011 to be effective 10/8/2010.

Filed Date: 01/27/2011

Accession Number: 20110127-5125

Comment Date: 5 p.m. Eastern Time on Thursday, February 17, 2011

Docket Numbers: ER10-2947-002.

Applicants: Vienna Power LLC

Description: Vienna Power LLC submits tariff filing per 35: Vienna—Amendment to MBR Tariff 01272011 to be effective 10/8/2010.

Filed Date: 01/27/2011

Accession Number: 20110127-5126

Comment Date: 5 p.m. Eastern Time on Thursday, February 17, 2011

Docket Numbers: ER10-2969-002.

Applicants: Oswego Harbor Power LLC

Description: Oswego Harbor Power LLC submits tariff filing per 35: Oswego Harbor—Amendment to MBR Tariff 01272011 to be effective 10/8/2010.

Filed Date: 01/27/2011

Accession Number: 20110127-5124

Comment Date: 5 p.m. Eastern Time on Thursday, February 17, 2011

Docket Numbers: ER10-3223-002.

Applicants: Indian River Power LLC

Description: Indian River Power LLC submits tariff filing per 35: Indian River—Amendment to MBR Tariff 01272011 to be effective 10/8/2010.

Filed Date: 01/27/2011

Accession Number: 20110127-5110

Comment Date: 5 p.m. Eastern Time on Thursday, February 17, 2011.

Docket Numbers: ER11-63-001.

Applicants: Long Beach Peakers LLC

Description: Long Beach Peakers LLC submits tariff filing per 35: Long Beach Peakers—Amendment to MBR Tariff 01272011 to be effective 10/11/2010.

Filed Date: 01/27/2011

Accession Number: 20110127-5143

Comment Date: 5 p.m. Eastern Time on Thursday, February 17, 2011

Docket Numbers: ER11-66-001.

Applicants: Saguaro Power Company LP

Description: Saguaro Power Company LP submits tariff filing per 35: Saguaro—Amendment to MBR Tariff 01272011 to be effective 10/11/2010.

Filed Date: 01/27/2011

Accession Number: 20110127-5144

Comment Date: 5 p.m. Eastern Time on Thursday, February 17, 2011

Docket Numbers: ER11-2760-000.

Applicants: California Independent System Operator Corporation

Description: California Independent System Operator Corporation submits tariff filing per 35.13(a)(2)(iii: 2011-01-26 CAISO's Start-Up and Minimum Load Amendment to be effective 4/1/2011.

Filed Date: 01/26/2011

Accession Number: 20110126-5395

Comment Date: 5 p.m. Eastern Time on Wednesday, February 16, 2011.

Docket Numbers: ER11-2761-000.

Applicants: Florida Power Corporation

Description: Florida Power Corporation submits tariff filing per 35.13(a)(2)(iii: Service Agreement No. 146 under Florida Power Corporation OATT to be effective 1/1/2011.

Filed Date: 01/27/2011

Accession Number: 20110127-5012

Comment Date: 5 p.m. Eastern Time on Thursday, February 17, 2011.

Docket Numbers: ER11-2762-000.

Applicants: Florida Power Corporation

Description: Florida Power Corporation submits tariff filing per 35.13(a)(2)(iii: Service Agreement No. 148 under Florida Power Corporation OATT to be effective 1/1/2011.

Filed Date: 01/27/2011

Accession Number: 20110127-5104

Comment Date: 5 p.m. Eastern Time on Thursday, February 17, 2011.

Docket Numbers: ER11-2763-000.

Applicants: Florida Power Corporation

Description: Florida Power Corporation submits tariff filing per 35.13(a)(2)(iii: Service Agreement No. 145 under Florida Power Corporation OATT to be effective 1/1/2011.

Filed Date: 01/27/2011

Accession Number: 20110127-5114

Comment Date: 5 p.m. Eastern Time on Thursday, February 17, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2011-2347 Filed 2-2-11; 8:45 am]

BILLING CODE 6717-01-P